DEPARTMENT OF ENERGY

Office of Energy Efficiency and Renewable Energy

National Priority Project Designation

AGENCY: Office of Energy Efficiency and Renewable Energy, U.S. Department of Energy.

ACTION: Notice of guidelines for requesting National Priority Project Designation.

SUMMARY: The Department of Energy (DOE) is publishing guidelines for persons and organizations interested in requesting National Priority Project Designation as established in the Energy Policy Act of 2005 (EPAct 2005). The President, upon recommendation of the Secretary of Energy, is authorized by EPAct 2005 annually to recognize projects that are making the greatest strides in helping the United States reduce its dependence on fossil fuels and promote domestic energy security. Following approval of an information collection request, DOE will publish an invitation to apply under the guidelines published today.

FOR FURTHER INFORMATION CONTACT: Patrick Shipp, Office of Information and Business Management Systems (EE-3C), Office of Energy Efficiency and Renewable Energy, U.S. Department of Energy, Washington, DC 20585, (202) 586-7769; Jody Barringer, Office of Information and Business Management Systems (EE-3C), Office of Energy Efficiency and Renewable Energy, U.S. Department of Energy, Washington, DC 20585; or e-mail at nppd@ee.doe.gov.

SUPPLEMENTARY INFORMATION: EPAct 2005 (Pub. L. 109-58), Section 1405, authorizes the President, on the basis of recommendations of the Secretary of Energy, annually to designate as National Priority Projects those projects shown to have advanced the field of renewable energy technology and/or building energy efficiency and contributed to North American energy independence. Organizations whose projects receive a Presidential designation will receive a medal bearing the inscription “National Priority Project,” and they may use the National Priority Project Designation in promotion of the organization. DOE also will work with recipients and with national media sources to spotlight these projects as models for the rest of the country and the world.

Section 1405 of EPAct 2005 establishes selection criteria for the following four categories of renewable energy projects: (1) Wind and biomass energy generation projects; (2) photovoltaic and fuel cell energy generation projects; (3) energy efficient building and renewable energy projects; and (4) first-in class projects. Section 1405 also directs the Secretary of Energy to publish in the Federal Register guidelines for submitting applications and annual invitations for applications. DOE's Guidelines for National Priority Project Designation are set forth as an Appendix to this notice.

Following approval of the collection of information published also in today's Federal Register, DOE will publish an invitation for applications.

Issued in Washington, DC on October 31, 2008.
John Mizroch,
Acting Assistant Secretary, Energy Efficiency and Renewable Energy.

Appendix

Department of Energy

Guidelines for National Priority Project Designation

Presidential National Priority Project Designation may be earned by organizations involved in projects that are leading the way in using energy efficiency and renewable energy technologies. This designation, established by Section 1405 of the Energy Policy Act of 2005 (Pub. L. 109-58) provides the President of the United States and the Secretary of Energy with a mechanism to recognize projects that are making the greatest strides in helping North America reduce its dependence on fossil fuels and promote domestic energy security.

Projects that receive the National Priority Project Designation will be highlighted by the Department of Energy (DOE) as transformational energy efficiency and renewable energy leaders. DOE will work with recipients and with national media sources to spotlight these projects as models for the rest of the country and the world.

I. Eligible Projects

A. Categories of Projects

DOE will accept applications for National Priority Project Designation in the following project categories:

(1) Grid-Scale Generation by Wind and Biomass Energy Projects. To be eligible for National Priority Project Designation, a wind or biomass project must provide electricity to the national power grid, rather than electricity designed to serve only specific end users.

A wind energy project is any installation of technologies that generates electricity, fuel or other usable energy by harnessing the power of wind.

A biomass energy project is any installation of technologies that generate electricity, fuel or other usable energy derived from biomass, and may include co-firing or co-gasification techniques if biomass is responsible for 51% or more of the energy produced. The term “biomass” means any lignin waste material that is segregated from other waste materials and is determined to be nonhazardous by the Administrator of the Environmental Protection Agency; and any solid, nonhazardous, cellulosic material that is derived from—

(A) Any of the following forest-related resources: mill residues, pre-commercial thinnings, slash, brush, or non-merchantable material;

(B) Solid wood waste materials, including waste pallets, crates, dunnage, manufacturing and construction wood wastes (other than pressure-treated, chemically treated, or painted wood wastes), and landscape or right-of-way tree trimmings; but not including municipal solid waste (garbage), gas derived from the biodegradation of solid waste, or paper that is commonly recycled;

(C) Agriculture wastes, including orchard tree crops, vineyard, grain, legumes, sugar, and other crop by-products or residues; and livestock waste nutrients; or

(D) A plant that is grown exclusively as a fuel for the production of electricity.

(2) Distributed Generation by Photovoltaic and Fuel Cell Energy Projects. A photovoltaic or fuel cell project must produce distributed generation to be eligible for National Priority Project Designation. DOE considers distributed generation to be any power source that is designed to power an end user within a radius of one mile from the source.

A photovoltaic energy project is any installation of technologies that converts light directly into electricity through a solid-state, semiconductor process.

A fuel cell energy project is any application of technologies that uses fuel cells to store or transport energy. The term “fuel cell” means a device that directly converts the chemical energy of a fuel and an oxidant into electricity by electrochemical processes occurring at separate electrodes in the device.

(3) Building Energy Efficiency and Renewable Energy Projects. This category of eligible projects consists of energy-efficient buildings and building-based renewable energy projects.

An energy-efficient building project is one that will retrofit an existing building or build a new building such that the building performs all of its intended roles while using significantly less energy than conventional building stock. DOE considers the term “new building” to mean a building that is completed to the point of being ready for occupancy not earlier than two years before the date of the application for National Priority Project Designation.

A renewable energy project is one using technology that generates electricity or usable energy in the form of heat, steam, or fuel from any of the following sources: solar, wind, biomass, landfill gas, ocean (including tidal, wave, current, and thermal), geothermal, municipal solid waste, or new hydroelectric generation capacity achieved from increased efficiency or additions of new capacity at an existing hydroelectric project.

(4) First-in-Class Building Energy Efficiency and Renewable Energy Projects. DOE considers a first-in-class project to be one that incorporates a new energy-related technology or technique not used before, not used in the same manner before, or not used on the same scale before.

B. Time of Construction

DOE will accept award applications both for projects that are being planned (are under construction or will begin construction within the next two years) and projects that are complete (were completed within the past two years).

II. Designation Criteria

To obtain the National Priority Project Designation, a project must:

• Utilize energy-efficient or renewable energy technologies and fit into one of the four categories of projects identified in Section I.A. of these guidelines;

• Be located within the United States; and

• Meet the following criteria (for applicable category):

○ For wind and biomass—the project must involve the installation of not less than 30 megawatts of renewable energy generation capacity.¹

¹ For purposes of the National Priority Project Designation, the National Renewable Energy Laboratory has defined the term ``capacity'' to mean the maximum amount of energy that can be generated or stored by a device at any given time. For example, the capacity for a wind turbine would be the maximum electricity (Watts) it could generate given ideal wind speeds. The capacity of an energy storage device would be the total amount of energy that can be stored in the device under ideal conditions.

○ For PV and fuel cells—the project must involve the installation of not less than 3 megawatts of renewable energy generation capacity.

○ For buildings—the project must have all of the following attributes:

• Meet guidelines for Leadership in Energy and Environmental Design (LEED) certification (any level);

• Use whole-building integration of energy efficiency and environmental performance design and technology, including advanced building controls;

• Use renewable energy for at least 50% of the energy consumption of the project;

• Use ENERGY STAR®-labeled products wherever possible; and

• Include at least 5 million square feet of enclosed space (not necessarily all in one building or at a single site). “Enclosed” means space closed off from the elements that is heated, cooled, or both.

○ For first-in-class building projects—the project must represent a first-in-class use of renewable energy or a new paradigm of building-integrated renewable energy use or energy efficiency. Any project establishing a new paradigm would need to include techniques that fundamentally change the assumptions made about energy systems as they relate to building science. This category could potentially include innovative project-financing approaches. There are no scale parameters for first-in-class building projects.

III. DOE Review and Designation

A. Selection Process

After the close of the application period, DOE will review the applications and determine which projects have the potential to receive the National Priority Project Designation. DOE will ask the applicants of those projects to have a professional engineer inspect their project and certify that the information contained in their application is correct. The professional engineer may be an employee of the applicant organization. Once this is done, DOE will consider these projects to be “certified projects.” A certified project is one that is reasonably expected to meet the selection criteria set forth in these Guidelines.

DOE technical staff will then conduct an additional review of all certified projects. This review may involve follow-up questions for the applicant organization. At the conclusion of this review, the Secretary of Energy will select the projects to be recommended to the President for designation as that year's National Priority Projects. While the Department of Energy will accept award applications in all four project categories, the Secretary of Energy may not recommend National Priority Project Designation for projects in all categories.

Any organization that applies for National Priority Project Designation may remove its project from consideration at any time.

B. Promotion of Designated Projects

Organizations whose projects are designated by the President as National Priority Projects will receive recognition from the Department of Energy in the form of:

• Receipt of a National Priority Project Designation medal at a national event;

• National news releases;

• Prominent recognition on the DOE Web site; and

• Other suitable forms of publicity and recognition

C. Additional Information

(1) Applicants may request confidentiality of information that they believe is exempt by law from public disclosure; this information must be clearly marked on the application by the applicant. DOE intends to honor requests for nondisclosure of information to the extent permitted by law, and it will make a final determination with regard to disclosure or nondisclosure of the information in accordance with DOE's Freedom of Information regulations (10 CFR 1004.11).

(2) Submission of an application for designation does not create any obligation on DOE to grant such designation.

(3) Questions or requests for additional information about National Priority Project Designation should be directed to nppd@ee.doe.gov.

[FR Doc. E8-27010 Filed 11-12-08; 8:45 am]

BILLING CODE 6450-01-P